DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the name of 10 entities and 22 individuals whose property and interests in property have been blocked pursuant to the Foreign Narcotics Kingpin Designation Act (“Kingpin Act”) (21 U.S.C. 1901-1908, 8 U.S.C. 1182).

DATES: The designation by the Director of OFAC of the 10 entities and 22 individuals identified in this notice pursuant to section 805(b) of the Kingpin Act is effective on December 3, 2009.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On December 3, 2009, OFAC designated 10 entities and 22 individuals whose property and interests in property are blocked pursuant to section 805(b) of the Foreign Narcotics Kingpin Designation Act.

The list of additional designees is as follows:

Entities

1. SERVICIO AEREO LEO LOPEZ, S.A. DE C.V., Coronado #421, Colonia Centro, Chihuahua, Chihuahua 31000, Mexico; Aeropuerto Internacional, Apartado Postal 586, Chihuahua, Chihuahua 31390, Mexico; R.F.C. SAL8003122W7 (Mexico); R.F.C. SAL581025 (Mexico); (ENTITY) [SDNTK]

2. REPRESENTACIONES INTUR, S.A. DE C.V., Antonio Ortiz 2409, Colonia Quintas Del Sol, Chihuahua, Chihuahua 31250, Mexico; R.F.C. RIN-010219 (Mexico); (ENTITY) [SDNTK]

3. ESTUDIOS Y PROYECTOS INTEGRALES DEL NORTE, S.C., Calle Coronado #421, Colonia Centro, Chihuahua, Chihuahua, Mexico; R.F.C. EPI-980910 (Mexico); (ENTITY) [SDNTK]

4. GRUPO STA CHIHUAHUA, S.A. DE C.V. (a.k.a. MAILCO); Lateral Blvd Periferico Ortiz Mena No. 2409, Col. Quinta Sol, Chihuahua, Chihuahua 31214, Mexico; R.F.C. GSC02086417 (Mexico); R.F.C. GSC0208264IF (Mexico); (ENTITY) [SDNTK]

5. PV STAR, S.A. DE C.V., Ohio No. 4123, Col. Quintas Del Sol, Chihuahua, Chihuahua 31214, Mexico; R.F.C. PST98081 (Mexico); (ENTITY) [SDNTK]

6. COMERCIALIZADORA ITAKA, S.A. DE C.V., Calle Deza y Ulloa Numero 2102A, Colonia San Felipe, Chihuahua, Chihuahua 31240, Mexico; Avenida Paseo Triunfo de la Republica 6610 2, Colonia Alamos de San Lorenzo, Juarez, Chihuahua, Mexico; Fresno No. 1116, Col Granjas, Chihuahua, Chihuahua 31000, Mexico; R.F.C. CIT030305FQ3 (Mexico); (ENTITY) [SDNTK]

7. ILC EXPORTACIONES, S. DE R.L. DE C.V. (a.k.a. GRUPO ILC; a.k.a. ILC CONSULTORES ADMINISTRATIVOS, S. DE R.L. DE C.V.; a.k.a. RESTAURANTE EL HABANERO, S.A. DE C.V.; a.k.a. “PERFECT SILHOUETTE”; a.k.a. “ULTRAVITAL”; a.k.a. “ULTRAPHARMA”; a.k.a. “EQUIPOSPA”); General Victoriano Cepeda 2, Colonia Observatorio, Miguel Hidalgo, Mexico, Distrito Federal 11860, Mexico; Louisiana No. 24, Esq. Montana, Col. Napoles, Del. Benito Juarez, Mexico, Distrito Federal 03810, Mexico; Periferico Sur #102, Col. Observatorio, Del. Miguel Hidalgo, Mexico, Distrito Federal, Mexico; Huixquilucan, Estado de Mexico, Mexico; R.F.C. IEX-950713-L90 (Mexico); R.F.C. ICA060810942 (Mexico); (ENTITY) [SDNTK]

8. FABRIDIESEL, Juan De Dios Batiz 690 OTE, Colonia El Parque, Los Mochis, Sinaloa 81250, Mexico; R.F.C. ZEBG-771220-PE6 (Mexico); (ENTITY) [SDNTK]

9. FABRIDIESEL, S.A. DE C.V., Blvd Juan De Dios Batiz 712 OTE, Los Mochis, Sinaloa, Mexico; (ENTITY) [SDNTK]

10. MOREXPRESS, S.A. DE C.V., Prol. Central ote. S/N, Tapachula, Chiapas 30700, Mexico; Octava Sur No. 122, Col. San Sebastian, Tapachula, Chiapas 30700, Mexico; Miramar No. 860-1, Zona Centro, Ensenada, Baja California 22800, Mexico; Guadalajara, Jalisco, Mexico; Hermosillo, Sonora, Mexico; Culiacan, Sinaloa, Mexico; R.F.C. MEX990209346 (Mexico); (ENTITY) [SDNTK]

Individuals

1. BELTRAN LEYVA, Hector (a.k.a. RIVERA MUNOZ, Alonso; a.k.a. BELTRAN LEYVA, Mario Alberto); Mexico; DOB 01 Jan 1960; POB Mexico; Citizen Mexico; Nationality Mexico; (INDIVIDUAL) [SDNTK]

2. BELTRAN LEYVA, Alfredo (a.k.a. BELTRAN LEYVA, Hector Alfredo); Mexico; DOB 21 Jan 1971; Alt. DOB 15 Feb 1951; POB La Palma, Badiriguato, Sinaloa, Mexico; Citizen Mexico; Nationality Mexico; SSN 604-26-2627 (United States); (INDIVIDUAL) [SDNTK]

3. LABORIN ARCHULETA, Clara Elena, Mexico; DOB 19 Feb 1964; POB Agua Prieta, Sonora, Mexico; Citizen Mexico; Nationality Mexico; C.U.R.P. LAAC640219MSRBRL06 (Mexico); (INDIVIDUAL) [SDNTK]

4. DE ICAZA LOZANO, Alejandro,c/o ILC EXPORTACIONES, S. DE R.L. DE C.V., Mexico, Distrito Federal, Mexico; Club de Golf No. 18, Casa No. 2, Conjunto Residencial Club Vista, La Atizapan de Zaragoza, Estado de Mexico, Mexico; DOB 22 Jan 1953; POB Distrito Federal, Mexico; Citizen Mexico; Nationality Mexico; C.U.R.P. IALA530122HDFCZL08 (Mexico); (INDIVIDUAL) [SDNTK]

5. GUTIERREZ BARBOZA, Maureen Patricia, c/o ILC EXPORTACIONES, S. DE R.L. DE C.V., Mexico, Distrito Federal, Mexico; Mexico; DOB 11 Jun 1972; POB Carmen Central San Jose, Costa Rica; Citizen Costa Rica; Nationality Costa Rica; Cedula No. 108390780 (Costa Rica); (INDIVIDUAL) [SDNTK]

6. LOMELIN MARTINEZ, Arturo, c/o ILC EXPORTACIONES, S. DE R.L. DE C.V., Mexico, Distrito Federal, Mexico; DOB 30 Jun 1947; POB Mexico, Distrito Federal, Mexico; Citizen Mexico; Nationality Mexico; C.U.R.P. LOMA470630HGTMRR08 (Mexico); (INDIVIDUAL) [SDNTK]

7. BOLANOS VITAL, Raul, c/o ILC EXPORTACIONES, S. DE R.L. DE C.V., Mexico, Distrito Federal, Mexico; DOB 26 Dec 1962; POB Mexico, D.F., Mexico; Citizen Mexico; Nationality Mexico; (INDIVIDUAL) [SDNTK]

8. BARROSO DEGOLLADO, Javier,c/o ILC EXPORTACIONES, S. DE R.L. DE C.V., Mexico, Distrito Federal, Mexico; DOB 26 Jul 1950; POB Mexico, D.F., Mexico; Citizen Mexico; Nationality Mexico; (INDIVIDUAL) [SDNTK]

9. RUBIO ZAGA, Jesus Roman, c/o ILC EXPORTACIONES, S. DE R.L. DE C.V., Mexico, Distrito Federal, Mexico; DOB 28 Aug 1973; POB Coyoacan, Distrito Federal, Mexico; Citizen Mexico; Nationality Mexico; C.U.R.P. RUZJ730828HDFBGS08 (Mexico); (INDIVIDUAL) [SDNTK]

10. MARTINEZ CANTABRANA, Cesar (a.k.a. MARTINEZ CANTABRANA, Cesar Alejandro); c/o ILC EXPORTACIONES, S. DE R.L. DE C.V., Mexico, Distrito Federal, Mexico; DOB 27 Oct 1968; POB Xochimilco, Distrito Federal, Mexico; Citizen Mexico; Nationality Mexico; C.U.R.P. MACC681027HDFRNS03 (Mexico); (INDIVIDUAL) [SDNTK]

11. ZERMENO BELTRAN, Guillermo, c/o FABRIDIESEL, Los Mochis, Sinaloa, Mexico; DOB 20 Dec 1977; POB Mexico; Citizen Mexico; Nationality Mexico; R.F.C. ZEBG771220-PE6 (Mexico); (INDIVIDUAL) [SDNTK]

12. BELTRAN SANCHEZ, Rosario,c/o FABRIDIESEL, S.A. DE C.V., Los Mochis, Sinaloa, Mexico; DOB 05 Oct 1952; POB Los Mochis, Sinaloa, Mexico; Citizen Mexico; Nationality Mexico; (INDIVIDUAL) [SDNTK]

13. ZERMENO BELTRAN, Patricia,c/o FABRIDIESEL, S.A. DE C.V., Los Mochis, Sinaloa, Mexico; DOB 25 May 1975; POB Los Mochis, Sinaloa, Mexico; Citizen Mexico; Nationality Mexico; (INDIVIDUAL) [SDNTK]

14. LOPEZ GRAYEB, Leopoldo (a.k.a. LOPEZ GRAYEB, Leopoldo Antonio); c/o SERVICIO AEREO LEO LOPEZ, S.A. DE C.V., Chihuahua, Chihuahua, Mexico; c/o REPRESENTACIONES INTUR, S.A. DE C.V., Chihuahua, Chihuahua, Mexico; c/o PV STAR, S.A. DE C.V., Chihuahua, Chihuahua, Mexico; California y Ohio #4123, Chihuahua, Chihuahua, Mexico; Avenida California #4123, Fraccionamiento Quintas Del Sol, Chihuahua, Chihuahua, Mexico; 10660 Parkview Circle, El Paso, TX 79935, United States; Ohio No. 4123, Col Quintas Del Sol, Chihuahua, Chihuahua 31214, Mexico; DOB 13 Sep 1937; POB Xalapa, Veracruz, Mexico; Citizen Mexico; Nationality Mexico; C.U.R.P. LOGL370913HVZPRP01 (Mexico); R.F.C. LOGL37091322A (Mexico); SSN 636-24-0389 (United States); (INDIVIDUAL) [SDNTK]

15. PORTILLO TOLENTINO, Rodolfo, c/o SERVICIO AEREO LEO LOPEZ, S.A. DE C.V., Chihuahua, Chihuahua, Mexico; Fernando De Borja #509, Chihuahua, Chihuahua 31240, Mexico; DOB 04 Nov 1945; POB Aquiles Serdan, Chihuahua, Mexico; Citizen Mexico; Nationality Mexico; C.U.R.P. POTR451104HCHRLD02 (Mexico); R.F.C. POTR451104G26 (Mexico); (INDIVIDUAL) [SDNTK]

16. LOPEZ FERNANDEZ, Noemi (a.k.a. LOPEZ FERNANDEZ, Nohemi; a.k.a. LOPEZ FERNANDEZ DE GORTARI, Noemi; a.k.a. LOPEZ DE DE GORTARI, Noemi); c/o SERVICIO AEREO LEO LOPEZ, S.A. DE C.V., Chihuahua, Chihuahua, Mexico; c/o REPRESENTACIONES INTUR, S.A. DE C.V., Chihuahua, Chihuahua, Mexico; c/o ESTUDIOS Y PROYECTOS INTEGRALES DEL NORTE, S.C., Chihuahua, Chihuahua, Mexico; 3210 Calle Michigan, Fraccionamiento Quintas del Sol, Chihuahua, Chihuahua, Mexico; DOB 05 Oct 1966; POB Chihuahua, Chihuahua, Mexico; Citizen Mexico; Nationality Mexico; C.U.R.P. LOFN661005MCHPRH08 (Mexico); (INDIVIDUAL) [SDNTK]

17. LOPEZ FERNANDEZ, Manuel (a.k.a. LOPEZ FERNANDEZ, Juan Manuel); c/o SERVICIO AEREO LEO LOPEZ, S.A. DE C.V., Chihuahua, Chihuahua, Mexico; c/o REPRESENTACIONES INTUR, S.A. DE C.V., Chihuahua, Chihuahua, Mexico; c/o GRUPO STA CHIHUAHUA, S.A. DE C.V., Chihuahua, Chihuahua, Mexico; c/o COMERCIALIZADORA ITAKA, S.A. DE C.V., Chihuahua, Chihuahua, Mexico; 4123 Avenida California, Fraccionamiento Quintas Del Sol, Chihuahua, Chihuahua, Mexico; Calle Ohio 3200, Chihuahua, Chihuahua, Mexico; DOB 19 Jan 1972; POB Chihuahua, Chihuahua, Mexico; Citizen Mexico; Nationality Mexico; C.U.R.P. LOFJ720119HCHPRN03 (Mexico); R.F.C. LOFJ720119-CR9 (Mexico); (INDIVIDUAL) [SDNTK]

18. DE GORTARI LOYOLA, Federico, c/o REPRESENTACIONES INTUR, S.A. DE C.V., Chihuahua, Chihuahua, Mexico; c/o ESTUDIOS Y PROYECTOS INTEGRALES DEL NORTE, S.C., Chihuahua, Chihuahua, Mexico; c/o GRUPO STA CHIHUAHUA, S.A. DE C.V., Chihuahua, Chihuahua, Mexico; 3210 Calle Michigan, Fraccionamiento Quintas Del Sol, Chihuahua, Chihuahua, Mexico; DOB 10 Apr 1962; POB Culiacan, Sinaloa, Mexico; Citizen Mexico; Nationality Mexico; C.U.R.P. GOLF620410HSLRYD08 (Mexico); R.F.C. GOLF-620610-M61 (Mexico); (INDIVIDUAL) [SDNTK]

19. VILLALOBOS ALVARADO, Juan Pablo, c/o PV STAR, S.A. DE C.V., Chihuahua, Chihuahua, Mexico; Calle Cedro No. 804, Chihuahua, Chihuahua, Mexico; DOB 14 Mar 1960; POB Chihuahua, Chihuahua, Mexico; Citizen Mexico; Nationality Mexico; C.U.R.P. VIAJ600314HCHLLN00 (Mexico); (INDIVIDUAL) [SDNTK]

20. BARRIO REZA, Jorge Luis, c/o SERVICIO AEREO LEO LOPEZ, S.A. DE C.V., Chihuahua, Chihuahua, Mexico; Calle Septima No. 1401, Villa Juarez, Chihuahua, Chihuahua, Mexico; DOB 31 Oct 1954; POB Chihuahua, Chihuahua, Mexico; Citizen Mexico; Nationality Mexico; C.U.R.P. BARJ541031HCHRZR06 (Mexico); (INDIVIDUAL) [SDNTK]

21. HUERTA RAMOS, Manuel (a.k.a. HUERTA RAMOS, Jesus Manuel); c/o SERVICIO AEREO LEO LOPEZ, S.A. DE C.V., Chihuahua, Chihuahua, Mexico; Sabino #804, Chihuahua, Chihuahua 31160, Mexico; DOB 26 Jun 1960; POB Juarez, Chihuahua, Mexico; Citizen Mexico; Nationality Mexico; C.U.R.P. HURJ600626HCHRMS03 (Mexico); (INDIVIDUAL) [SDNTK]

22. MORENO PEREZ, Felipe, c/o MOREXPRESS, S.A. DE C.V., Tapachula, Chiapas, Mexico; DOB 05 Dec 1964; POB Tapachula, Chiapas, Mexico; Citizen Mexico; Nationality Mexico; C.U.R.P. MOPF641205HCSRRL04 (Mexico); C.U.R.P. MOPF641205HCSRRL12 (Mexico); (INDIVIDUAL) [SDNTK]

Dated: December 3, 2009.
Adam J. Szubin,
Director, Office of Foreign Assets Control.

[FR Doc. E9-29438 Filed 12-9-09; 8:45 am]

BILLING CODE 4811-45-P